DEPARTMENT OF HEALTH AND HUMAN SERVICES

Health Resources and Services Administration

Agency Information Collection Activities: Submission to OMB for Review and Approval; Public Comment Request; Black Lung Clinics Program Performance Measures, OMB No. 0915-0292—Revision

AGENCY: Health Resources and Services Administration (HRSA), Department of Health and Human Services.

ACTION: Notice.

SUMMARY: In compliance with of the Paperwork Reduction Act of 1995, HRSA has submitted an Information Collection Request (ICR) to the Office of Management and Budget (OMB) for review and approval. Comments submitted during the first public review of this ICR will be provided to OMB. OMB will accept further comments from the public during the review and approval period. OMB may act on HRSA's ICR only after the 30 day comment period for this Notice has closed.

DATES: Comments on this ICR should be received no later than September 23, 2021.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Lisa Wright-Solomon, the HRSA Information Collection Clearance Officer at paperwork@hrsa.gov or call (301) 443-1984.

SUPPLEMENTARY INFORMATION: When submitting comments or requesting information, please include the information request collection title for reference.

Information Collection Request Title: Black Lung Clinics Program Performance Measures OMB No. 0915-0292 Revision.

Abstract: HRSA's Federal Office of Rural Health Policy conducts an annual data collection of user information for the Black Lung Clinics Program (BLCP), which has been ongoing with OMB approval since 2004. The BLCP is authorized by Sec. 427(a) of the Federal Mine Safety and Health Act of 1977, as amended (30 U.S.C. 937), and accompanying regulations at 42 CFR part 55a, to reduce the morbidity and mortality associated with occupationally-related coal mine dust lung disease through the screening, diagnosis, and treatment of active, inactive, retired, and/or disabled coal miners. Collecting this data provides HRSA with information on how well each grantee is meeting the needs of these miners in their communities.

Need and Proposed Use of the Information: Data from the annual performance measures report provides quantitative information about the clinics, specifically: (a) The characteristics of the patients they serve (age, diagnoses, occupation type); (b) the characteristics of services provided (clinical services and benefits counseling); and (c) the number of patients served. This assessment enables HRSA to provide data required by Congress under the Government Performance and Results Act of 1993. It also ensures that funds are effectively used to provide services that meet the target population needs.

The proposed changes of the BLCP measures are a result of the accumulation of grantee and stakeholder feedback, and information gathered from the previously approved BLCP measures. The proposed changes include revisions of current measures for better usability and additional questions about screening program participation, smoking, pulmonary function testing, referral for services, and COVID-19 vaccination.

Likely Respondents: Respondents will likely be award recipients of the Black Lung Clinics Program.

A 60-day Federal Register Notice was published in the Federal Register on May 13, 2021, vol. 86, No. 91, pp. 26225-26226. There were no public comments.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Black Lung Clinics Program Measures | 15 | 1 | 15 | 10 | 150
Total | 15 |  | 15 |  | 150

HRSA specifically requests comments on: (1) The necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2021-18152 Filed 8-23-21; 8:45 am]

BILLING CODE 4165-15-P